FEDERAL COMMUNICATIONS COMMISSION

47 CFR Part 73

[DA 00-1221; MM Docket No. 00-102, RM-9888]

Radio Broadcasting Services; Charlotte Amalie, Frederiksted, and Christiansted, VI

AGENCY: Federal Communications Commission.

ACTION: Proposed rule.

SUMMARY: The Commission requests comments on a petition filed by Ocean FM Media and Island Prime Media proposing to allotment Channel 257A at Charlotte Amalie, Virgin Islands; and the allotment of Channel 258A at Frederiksted, Virgin Islands. To accommodate the allotments, petitioners also request the substitution of Channel 293B for Channel 258B at Christiansted, Virgin Islands, and the modification of Station WVIQ-FM's license accordingly. Channel 257A can be allotted to Charlotte Amalie with compliance with the Commission's minimum distance separation requirements with a site restriction of 4.2 kilometers (2.6 miles) west; Channel 258A can be allotted to Frederiksted in compliance with the Commission's minimum distance separation requirements at city reference; and Channel 293B can be substituted at Christiansted in compliance with the Commission's minimum distance separation requirements with a site restriction of 3.1 kilometers (1.9 miles) southeast at Station WVIQ-FM's presently licensed site. The coordinates for Channel 257A at Charlotte Amalie are 18-21-25 North Latitude and 64-58-00 West Longitude; the coordinates for Channel 258A at Frederiksted are 17-42-48 North Latitude and 64-53-00 West Longitude; and the coordinates for Channel 293B at Christiansted are 17-44-07 North Latitude and 64-40-46 West Longitude.

DATES: Comments must be filed on or before July 24, 2000, reply comments on or before August 8, 2000.

ADDRESSES: Federal Communications Commission, Washington, DC 20554. In addition to filing comments with the FCC, interested parties should serve the petitioner, or its counsel or consultant, as follows: James L. Oyster, 108 Oyster Lane, Castleton, Virginia 22716-2839 (Counsel for Petitioner).

FOR FURTHER INFORMATION CONTACT: Sharon P. McDonald, Mass Media Bureau, (202) 418-2180.

SUPPLEMENTARY INFORMATION: This is a synopsis of the Commission's Notice of Proposed Rule Making, MM Docket No. 00-102, adopted May 24, 2000, and released June 2, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-15264 Filed 6-15-00; 8:45 am]

BILLING CODE 6712-01-P